NATIONAL SCIENCE FOUNDATION

Notice of Permit Modification Received Under the Antarctic Conservation Act of 1978

AGENCY: National Science Foundation.

ACTION: Notice of permit modification under the Antarctic Conservation Act of 1978, Public Law 95-541.

SUMMARY: The National Science Foundation (NSF) is required to publish a notice of modify permits issued to conduct activities regulated under the Antarctic Conservation Act of 1978. NSF has published regulations under the Antarctic Conservation Act at Title 45 Part 670 of the Code of Federal Regulations. This is the required notice of a permit modification.

DATES: Interested parties are invited to submit written data, comments, or views with respect to this permit modification by August 12, 2013. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation must report to the Antarctic Treaty annually, no later than June 1 on activities occurring in Antarctic Specially Protected Areas (ASPA) or involving Antarctic Flora and Fauna. Starting in 2013, all new permits issued for ASPA entry or involving Antarctic Flora and Flora require the permittee to submit an annual report to the Foundation by April 1. There are a number of currently valid permits for activities occurring in Antarctic Specially Protected Areas (ASPA) or involving Antarctic Flora and Fauna issued prior to 2013 that require the permittee to submit an annual report to the Foundation by June 30. In order to meet United States Government obligations with respect to the Antarctic Treaty Annual Exchange of Information the Foundation intends to change the reporting deadline from June 30 to April 1 for the permits:

ACA 2011-002

ACA 2012-012

ACA 2012-016

ACA 2012-013

ACA 2012-004

ACA 2012-015

ACA 2011-024

ACA 2011-023

ACA 2011-006

ACA 2009-015

ACA 2013-009

ACA 2009-013

ACA 2012-005

Nadene G. Kennedy,
Division of Polar Programs.

[FR Doc. 2013-16664 Filed 7-11-13; 8:45 am]

BILLING CODE 7555-01-P